DEPARTMENT OF THE INTERIOR

National Park Service

General Management Plan, Final Environmental Impact Statement, Rio Grande Wild and Scenic River, Texas

AGENCY: National Park Service, Department of the Interior.

ACTION: Notice of Availability of the Final Environmental Impact Statement for the General Management Plan, Rio Grande Wild and Scenic River.

SUMMARY: The National Park Service announces the availability of the Final Environmental Impact Statement for the General Management Plan for Rio Grande Wild and Scenic River, Texas. This is being done pursuant to the National Environmental Policy Act of 1969, 42 U.S.C. 4332(C).

DATES: The National Park Service will execute a Record of Decision (ROD) no sooner than 30 days following publication by the Environmental Protection Agency of the notice of availability of the Final Environmental Impact Statement.

ADDRESSES: Copies of the General Management Plan and Environmental Impact Statement are available from the Superintendent, John King, Rio Grande Wild and Scenic River, P.O. Box 129, Big Bend National Park, TX 79834-0129, (432) 477-1101. Public reading copies of the document will be available at the following locations:

Office of the Superintendent, Rio Grande Wild and Scenic River, c/o Big Bend National Park, 1 Headquarters Dr., Big Bend National Park, TX 79834.

NPS Intermountain Support Office, Planning and Environmental Quality, 12795 W. Alameda Parkway, Lakewood, CO 80228, Telephone: (303) 987-6671.

FOR FURTHER INFORMATION CONTACT: Lou Good, Management Assistant, Rio Grande Wild and Scenic River, P.O. Box 129, Big Bend National Park, TX 79834-0129, 432-477-1103.

Dated: November 3, 2004.
Steven P. Martin,
Director, Intermountain Region, National Park Service.

[FR Doc. 04-28294 Filed 12-27-04; 8:45 am]

BILLING CODE 4310-KF-P